DEPARTMENT OF DEFENSE

Office of the Secretary

Notice; Public Meeting of the Defense Advisory Committee on Military Compensation

AGENCY: DoD.

SUMMARY: Name of Committee: The Defense Advisory Committee on Military Compensation (DACMC).

Committee Membership: Chairman: ADM (Ret) Donald L. Pilling. Members: Dr. John P. White; Gen (Ret) Lester L. Lyles; Mr. Frederic W. Cook; Dr. Walter Oi; Dr. Martin Anderson; and Mr. Joseph E. Jannotta.

General Function of the Committee: The Committee will provide the Secretary of Defense, through the Under Secretary of Defense (Personnel and Readiness), with assistance and advice on matters pertaining to military compensation. The Committee will examine what types of military compensation and benefits are the most effective for meeting the needs of the Nation.

Agenda: On August 31, 2005, from 10 a.m. to 12 p.m. and 1 p.m. to 3 p.m. During the morning session, the Committee will deliberate on compensation issues identified by its Subcommittees on the areas of retirement compensation, health benefits, special and incentive pays, reserve compensation, and quality of life matters as it continues to prepare its interim report. In the afternoon, the Committee will conduct a discussion with invited groups.

Procedure: Public participation in Committee discussions at this meeting will not be permitted. Written submissions of data, information, and views may be sent to the Committee contact person at the address shown. Submissions should be received by close of business August 24, 2005. Persons attending are advised that the Committee is not responsible for providing access to electrical outlets.

DATES: Wednesday, August 31, 2005, from 10 a.m. to 12 p.m. (morning session) and 1 p.m. to 3 p.m. (afternoon session).

Location: Crystal City Hilton, 2399 Jefferson Davis Highway, Arlington, VA 22202.

FOR FURTHER INFORMATION CONTACT: Mr. Terry Mintz, Designated Federal Official, Defense Advisory Committee on Military Compensation, 2521 S. Clark Street, Arlington, VA 22202. Telephone: 703-699-2700.

Dated: July 27, 2005.
Jeannette Owings-Ballard,
OSD Federal Register Liaison Officer, Department of Defense.

[FR Doc. 05-15197 Filed 8-1-05; 8:45 am]

BILLING CODE 5001-06-M